DEPARTMENT OF THE INTERIOR

Fish and Wildlife Service

50 CFR Part 17

RIN 1018-AF98

Endangered and Threatened Wildlife and Plants; Reopening of Comment Period on Draft Economic Analysis of Critical Habitat for the Alameda Whipsnake (Masticophis Lateralis Euryxanthus)

AGENCY: Fish and Wildlife Service, Interior.

ACTION: Proposed rule; reopening of comment period.

SUMMARY: The U.S. Fish and Wildlife Service (Service) gives notice of the availability of the draft Economic Analysis for the proposal to designate critical habitat for the Alameda whipsnake (Masticophis lateralis euryxanthus) and the reopening of the public comment period for the proposal. The new comment period will allow all interested parties to submit comments on the draft Economic Analysis and proposed designation.

DATES: The comment period for this proposal closes on July 24, 2000. Comments on the draft Economic Analysis and proposed designation must be received by the closing date.

ADDRESSES: Written comments should be sent to the Field Supervisor, Sacramento Fish and Wildlife Office, U.S. Fish and Wildlife Service, 2800 Cottage Way, Suite W-2605, Sacramento, California 95825. Copies of the draft Economic Analysis are available from the aforementioned address. Comments and materials received will be available for public inspection, by appointment, during normal business hours at the above Service address.

FOR FURTHER INFORMATION CONTACT: Jason Davis or Heather Bell, at the above address, phone 916-414-6600, facsimile 916-414-6710.

SUPPLEMENTARY INFORMATION:

Background

On March 8, 2000, the Service published a proposed rule to designate critical habitat for the Alameda whipsnake in the Federal Register (65 FR 12155). The original comment period closed on May 8, 2000. The comment period for the proposed designation was re-opened through June 12, 2000 (65 FR 30951, May 15, 2000). The comment period for the draft Economic Analysis is open until July 24, 2000. Written comments should be submitted to the Service (see ADDRESSES section).

A total of approximately 164,663 hectares (406,708 acres) of land fall within the boundaries of the proposed critical habitat designation. Proposed critical habitat is located in Contra Costa, Alameda, San Joaquin, and Santa Clara counties, California. If this proposal is made final, section 7 of the Act prohibits destruction or adverse modification of critical habitat by any activity funded, authorized, or carried out by any Federal agency. Section 4 of the Act requires us to consider economic and other impacts of specifying any particular area as critical habitat.

The comment period on this proposal and the draft Economic Analysis closes on July 24, 2000. Written comments should be submitted to the Service office listed in the ADDRESSES section.

Author

The primary author of this notice is Stephanie Brady (see ADDRESSES section).

Authority

The authority for this action is the Endangered Species Act of 1973 (16 U.S.C. 1531 et seq.).

Dated: June 15, 2000.
Don Weathers,
Acting Regional Director, Region 1.

[FR Doc. 00-15772 Filed 6-22-00; 8:45 am]

BILLING CODE 4310-55-P